DEPARTMENT OF ENERGY

Federal Energy Regulatory Commission

[Docket No. RP04-136-008]

Iroquois Gas Transmission System, L.P.; Notice of Refund Report

January 12, 2005.

Take notice that on January 7, 2005, Iroquois Gas Transmission System, L.P. (Iroquois) tendered for filing a refund report in the captioned proceeding.

Iroquois explains that, in accordance with the terms of its Stipulation and Settlement Agreement that was approved by the Commission on October 13, 2004, Iroquois proposed to resolve all issues in the captioned proceeding and establish the base tariff rates (including primary access and secondary access rates) (Eastchester Settlement Rates) applicable to Iroquois's Eastchester Extension Project. Iroquois further explains that it has calculated and allocated the total amount of refunds (including interest calculated in accordance with the Commission's regulations) owed to shippers who have paid amounts in excess of the Eastchester Settlement Rates.

Iroquois states that copies of its filing were served on all jurisdictional customers and interested state regulatory agencies and all parties to the proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Protest Date: 5 p.m. eastern time on January 19, 2005.

Magalie R. Salas,
Secretary.

[FR Doc. E5-238 Filed 1-21-05; 8:45 am]

BILLING CODE 6717-01-P